DEPARTMENT OF COMMERCE

International Trade Administration

[A-533-809]

Certain Forged Stainless Steel Flanges From India: Final Results of Antidumping Duty New Shipper Review

AGENCY: Import Administration, International Trade Administration, Department of Commerce.

ACTION: Notice of final results of antidumping duty new shipper review.

SUMMARY: On September 27, 2002, the Department published in the Federal Register the preliminary results of this new shipper review of certain forged stainless steel flanges from India (67 FR 61069). This review covers one manufacturer/exporter, Metal Forgings Pvt. Ltd. (Metal Forgings) and sales of the subject merchandise to the United States during the period January 1, 2001 through July 31, 2001. The final results do not differ from the preliminary results of review, in which we found that the respondent made no sales in the United States at prices below normal value.

EFFECTIVE DATE: January 3, 2003.

FOR FURTHER INFORMATION CONTACT: Thomas Killiam or Robert James, AD/CVD Enforcement Group III, Import Administration, International Trade Administration, U.S. Department of Commerce, 14th Street and Constitution Avenue NW., Washington, DC 20230, telephone: (202) 482-5222 or (202) 482-0649, respectively

SUPPLEMENTARY INFORMATION:

Background

On September 27, 2002, the Department published in the Federal Register the preliminary results of this new shipper review of certain forged stainless steel flanges from India (67 FR 61069). We invited interested parties to comment on our preliminary results of review. We received no comments. The Department has now completed the new shipper review in accordance with section 751 of the Tariff Act.

Scope of Review

The products covered by this order are certain forged stainless steel flanges both finished and not-finished, generally manufactured to specification ASTM A-182, and made in alloys such as 304, 304L, 316, and 316L. The scope includes five general types of flanges. They are weld neck, used for butt-weld line connections, threaded, used for threaded line connections, slip-on and lap joint, used with stub ends/butt-weld line connections, socket weld, used to fit pipe into a machined recession, and blind, used to seal off a line. The sizes of the flanges within the scope range generally from one to six inches; however, all sizes of the above described merchandise are included in the scope. Specifically excluded from the scope of this order are cast stainless steel flanges. Cast stainless steel flanges generally are manufactured to specification ASTM A-351. The flanges subject to this order are currently classifiable under subheading 7307.21.1000 and 7307.21.5000 of the Harmonized Tariff Schedule of the United States (HTSUS). The HTSUS subheadings are provided for convenience and customs purposes. The written description of the scope of this order remains dispositive.

Final Results of the Review

No changes to our analysis in the preliminary results are warranted for purposes of these final results. Accordingly, the weighted-average dumping margin for Metal Forgings for the period January 1, 2001 through July 31, 2001, is as follows:

Manufacturer/exporter | Margin
Metal Forgings Pvt. Ltd | 0.00%

Cash Deposit Requirements

Bonding is no longer permitted to fulfill security requirements for shipments from Metal Forgings of certain forged stainless steel flanges from India entered, or withdrawn from warehouse, for consumption on or after the publication date of these final results of new shipper review. The following cash-deposit requirements will be effective upon publication of the final results of this new shipper review for all shipments of subject merchandise entered or withdrawn from warehouse for consumption on or after the publication date as provided for by section 751(a)(2)(C) of the Tariff Act:

• For subject merchandise manufactured and exported by Metal Forgings, no cash deposit is required. In accordance with the practice established in Fresh Garlic From The People's Republic of China: Final Results of Antidumping Duty New Shipper Review, 67 FR 72139 (December 4, 2002) and Notice of Preliminary Results of Antidumping Duty New Shipper Review: Freshwater Crawfish Tail Meat From the People's Republic of China, 67 FR 52442 (August 12, 2002), the new shipper cash deposit rate will only apply to the merchandise subject to this new shipper review, i.e., merchandise produced and exported by Metal Forgings.

• For subject merchandise exported by Metal Forgings but not manufactured by Metal Forgings, the cash-deposit rate will be the rate applicable to the manufacturer.

• If the exporter is not a firm covered in this review or in any previous segment of this proceeding, but the manufacturer is, the cash deposit rate will be that established for the manufacturer in the most recent segment of these proceedings in which that manufacturer participated.

• Finally, if neither the exporter nor the manufacturer is a firm covered in this review or in any previous segment of this proceeding, the cash deposit rate will be 162.14 percent, the all others rate established in the less-than-fair-value investigation.

These deposit requirements shall remain in effect until publication of the final results of the next administrative review.

This notice also serves as a final reminder to importers of their responsibility under 19 CFR 351.402(f)(2) to file a certificate regarding the reimbursement of antidumping duties prior to liquidation of the relevant entries during this review period. Failure to comply with this requirement could result in the Secretary's presumption that reimbursement of antidumping duties occurred, and in the subsequent assessment of double antidumping duties.

This notice also serves as the only reminder to parties subject to administrative protective order (APO) of their responsibility concerning the disposition of proprietary information disclosed under APO in accordance with 19 CFR 351.305(a)(3). Timely notification of return/destruction of APO materials or conversion to judicial protective order is hereby requested. Failure to comply with the regulations and the terms of an APO is a sanctionable violation.

We are issuing and publishing this determination in accordance with sections 751(a)(1) and 777(i)(1) of the Tariff Act, and 19 CFR 351.214.

Dated: December 18, 2002.
Bernard T. Carreau,
Acting Assistant Secretary for Import Administration.

[FR Doc. 03-78 Filed 1-2-03; 8:45 am]

BILLING CODE 3510-DS-P